DEPARTMENT OF HEALTH AND HUMAN SERVICES

Indian Health Service

Indian Self-Determination and Education Assistance Contracts; Correction

AGENCY: Indian Health Service, HHS.

ACTION: Notice; correction.

SUMMARY: The Indian Health Service published a document in the Federal Register on May 30, 2013, concerning a request for a renewal of the collection of information, titled, “Indian Self Determination and Education Assistance Contracts, 25 CFR Part 900.” The document contained an error regarding the “Estimated Time per Response.”

FOR FURTHER INFORMATION CONTACT: Ms. Tamara Clay, Reports Clearance Officer, Indian Health Service, 801 Thompson Avenue, TMP, Suite 450, Rockville, MD 20852, Telephone 301-443-4750. (This is not a toll-free number.)

Correction

In the Federal Register of May 30, 2013, in Vol. 78, No. 104, on page 32406, in the third column, under the heading “Estimated Time per Response: Varies from 1 to 1040 hours, with an average of 11 hours per response” it should read “Estimated Time per Response: Varies from 1 to 1040 hours, with an average of 15.968 hours per response.”

Dated: June 10, 2013.
Yvette Roubideaux,
Acting Director, Indian Health Services.

[FR Doc. 2013-14293 Filed 6-14-13; 8:45 am]

BILLING CODE 4165-16-P